SECURITIES AND EXCHANGE COMMISSION

[Release No. 34-45706; File No. SR-NYSE-2002-08]

Self Regulatory Organizations; New York Stock Exchange, Inc.; Order Granting Approval to Proposed Rule Change Relating to Changes to Audit Trail Account Identification Codes

April 8, 2002.

On January 23, 2002, the New York Stock Exchange, Inc. (“NYSE”) filed with the Securities and Exchange Commission (“Commission”), pursuant to section 19(b)(1) of the Securities Exchange Act of 1934 (“Act”) ¹ and rule 19b-4 thereunder,² a proposed rule change to introduce a new identification code/audit trail account type, “Q,” to indicate a proprietary trade by a member to cover the member's own error pursuant to Exchange Rule 134.

¹ 15 U.S.C. 78s(b)(1).

² 17 CFR 240.19b-4.

The proposed rule change was published for comment in the Federal Register on February 28, 2002.³ The Commission received no comments on the proposal.

³ Securities Exchange Act Release No. 45462 (February 20, 2002), 67 FR 9341 (February 28, 2002).

The Commission finds that the proposed rule change is consistent with the requirements of the Act and the rules and regulations thereunder applicable to a national securities exchange ⁴ and, in particular, the requirements of section 6 of the Act ⁵ and the rules and regulations thereunder. The Commission finds specifically that the proposed rule change is consistent with section 6(b)(5) of the Act,⁶ which requires, among other things, that an exchange have rules that are designed to promote just and equitable principles of trade, to remove impediments to and perfect the mechanism of a free and open market and a national market system and, in general, to protect investors and the public interest. The Commission believes the addition of the identifier “Q” for proprietary trades to cover the member's own error should protect investors by identifying error transactions and enhancing the Exchange's ability to conduct automated surveillance of NYSE members' error trading.

⁴ In approving this proposed rule change, the Commission notes that it has considered the proposed rule's impact on efficiency, competition, and capital formation. 15 U.S.C. 78c(f).

⁵ 15 U.S.C. 78f.

⁶ 15 U.S.C. 78f(b)(5).

It is therefore ordered, pursuant to section 19(b)(2) of the Act,⁷ that the proposed rule change (File No. SR-NYSE-2002-08) be, and it hereby is, approved.

⁷ 15 U.S.C. 78s(b)(2).

For the Commission, by the Division of Market Regulation, pursuant to delegated authority.⁸
⁸ 17 CFR 200.30-3(a)(12).
Margaret H. McFarland,
Deputy Secretary.

[FR Doc. 02-9062 Filed 4-12-02; 8:45 am]

BILLING CODE 8010-01-U